COMMITTEE FOR THE IMPLEMENTATION OF TEXTILE AGREEMENTS

Denial of Commercial Availability Request under the United States - African Growth and Opportunity Act (AGOA)

June 10, 2003.

AGENCY: The Committee for the Implementation of Textile Agreements (CITA).

ACTION: Denial of the request alleging that certain cotton velvet fabrics, for use in apparel articles, cannot be supplied by the domestic industry in commercial quantities in a timely manner under the AGOA.

SUMMARY: On April 8, 2003 the Chairman of CITA received a petition from Crystal Apparel Limited. of Hong Kong and Sinotex Mauritius Limited in Mauritius alleging that certain light- and medium-weight dyed cotton warp pile velvet fabrics (see Annex I for product specifications) classified in subheading 5801.25.00 of the Harmonized Tariff Schedule of the United States (HTSUS), for use in apparel articles including men's and boys' jackets and pants, women's and girls' jackets, dresses, skirts, shorts, and pants, cannot be supplied by the domestic industry in commercial quantities in a timely manner and requesting that apparel of such fabrics be eligible for preferential treatment under the AGOA. Based on currently available information, CITA has determined that these subject fabrics can be supplied by the domestic industry in commercial quantities in a timely manner and therefore denies the request.

FOR FURTHER INFORMATION CONTACT: Anna Flaaten, Office of Textiles and Apparel, U.S. Department of Commerce, (202) 482-3400.

SUPPLEMENTARY INFORMATION:

Authority: Section 112 (b)(5)(B) of the AGOA, Section 1 of the Executive Order No. 13191 of January 17, 2001.

BACKGROUND:

The AGOA provides for quota- and duty-free treatment for qualifying textile and apparel products. Such treatment is generally limited to products manufactured from yarns and fabrics formed in the United States or a beneficiary country. The AGOA also provides for quota- and duty-free treatment for apparel articles that are both cut (or knit-to-shape) and sewn or otherwise assembled in one or more AGOA beneficiary countries from fabric or yarn that is not formed in the United States or a beneficiary country, if it has been determined that such fabric or yarn cannot be supplied by the domestic industry in commercial quantities in a timely manner. Pursuant to Executive Order No. 13191, the President's authority to determine whether yarns or fabrics cannot be supplied by the domestic industry in commercial quantities in a timely manner under the AGOA is exercised by CITA.

On April 8, the Chairman of CITA received a petition from Crystal Apparel Limited. of Hong Kong and Sinotex Mauritius Limited. in Mauritius alleging that certain light- and medium-weight dyed cotton warp pile velvet fabrics (see Annex I for product specifications), classified in subheading 5801.25.00 of the Harmonized Tariff Schedule of the United States (HTSUS), for use in apparel articles including men's and boys' jackets and pants, women's and girls' jackets, dresses, skirts, shorts, and pants, cannot be supplied by the domestic industry in commercial quantities in a timely manner. The petitioner requested quota- and duty-free treatment under the AGOA for apparel articles that are both cut and sewn in one or more AGOA beneficiary countries from such fabrics.

On April 14, 2003, CITA solicited public comments regarding this request, particularly with respect to whether these fabrics can be supplied by the domestic industry in commercial quantities in a timely manner. On April 30, 2003, CITA and the Office of the U.S. Trade Representative offered to hold consultations with the relevant Congressional committees. We also requested the advice of the U.S. International Trade Commission and the relevant Industry Sector Advisory Committees.

CITA has determined that certain light- and medium-weight dyed cotton warp pile velvet fabrics, classified in subheading 5801.25.00 of the Harmonized Tariff Schedule of the United States (HTSUS), for use in apparel articles including men's and boys' jackets and pants, women's and girls' jackets, dresses, skirts, shorts, and pants, can be supplied by the domestic industry in commercial quantities in a timely manner. Crystal Apparel Limited and Sinotex Mauritius Limited's request is denied.

Annex 1

Product Specifications:
1. Name: light-weight dyed warp pile velvet
HTS subheading: 5801.25.00
Fiber Composition: 100 percent combed cotton
Yarn: 230 g/m2 to 260 g/m2
Construction:
Woven Fabric - 96 x 98
Warp - 42/2 ply + 42/2 ply
Weft - 32 single yarn
Woven Fabric - 96 x 102
Warp - 42/2 ply + 60/2 ply
Weft - 32 single yarn
2. Name: medium-weight dyed warp pile velvet
HTS subheading: 5801.25.00
Fiber Composition: 97 to 98 percent cotton, up to 3 percent spandex yarn
Yarn: 280 g/m2 to 330 g/m2
Construction:
Woven Fabric - 110 x 84
Warp - 42/2 ply + 50/2 ply
Weft - 30 single yarn + 40 denier spandex
Woven Fabric - 126 x 84
Warp - 42/2 ply + 50/2 ply
Weft - 30 single yarn + 40 denier spandex

James C. Leonard III,
Chairman, Committee for the Implementation of Textile Agreements.

[FR Doc. 03-14964 Filed 6-12-03; 8:45 am]

BILLING CODE 3510-DR-S